DEPARTMENT OF HEALTH AND HUMAN SERVICES

Centers for Disease Control and Prevention

National Vaccine Advisory Committee, Subcommittee on Future Vaccines, Subcommittee on Immunization Coverage, and Subcommittee on Vaccine Safety and Communication Meetings

In accordance with section 10(a)(2) of the Federal Advisory Committee Act (P.L. 92-463), the Centers for Disease Control and Prevention (CDC) announces the following Federal advisory committee meetings.

This notice is published less than 15 days prior to the meeting due to administrative delay.

Name: National Vaccine Advisory Committee (NVAC).

Times and Dates: 9 a.m.-2:15 p.m., October 23, 2000. 8:30 a.m.-3:45 p.m., October 24, 2000.

Place: Hubert H. Humphrey Building, Room 505A, 200 Independence Avenue, SW, Washington, DC 20201.

Status: Open to the public, limited only by the space available.

Notice: In the interest of security, the Department has instituted stringent procedures for entrance to the Hubert H. Humphrey Building by non-government employees. Thus, persons without a government identification card should plan to arrive at the building each day either between 8:00 a.m. and 8:30 a.m. or 12:30 p.m. and 1:00 p.m. Entrance to the meeting at other times during the day cannot be assured.

Purpose: This committee advises and makes recommendations to the Director of the National Vaccine Program on matters related to the Program responsibilities.

Matters to be Discussed: Agenda items will include: a report from the National Vaccine Program Office (NVPO) and the Interagency Vaccine Workgroup; an update on the IOM Report, Vaccines for the 21st Century; an update on Pandemic Planning; a discussion of the IOM Report on Immunization Funding; NVAC Polio Containment Workgroup Report; Vaccine Safety and Communication Subcommittee Report; Immunization Coverage Subcommittee Report; Future Vaccines Subcommittee Report; update from the Office of the Assistant Secretary for Health and Surgeon General; a report on Global Immunization Initiatives; discussions on Malaria Vaccine Initiative; a report on HIV Vaccine Status; Measles Eradication in the Americas; ACCV Annual Report; VRPBC Highlights; and ACIP Highlights.

Name: Subcommittee on Future Vaccines.

Time and Date: 2:15 p.m.-5 p.m., October 23, 2000.

Place: Hubert H. Humphrey Building, Room 305A, 200 Independence Avenue, SW, Washington, DC 20201.

Status: Open to the public, limited only by the space available.

Purpose: This subcommittee develops policy options and guides national activities that lead to accelerated development, licensure, and the best use of new vaccines in the simplest possible immunization schedules.

Matters to be Discussed: Agenda items will include discussions on a proposal to hold a Workshop on Oral Vaccines and an update on the Workshop on Cytomegalovirus Vaccine development.

Name: Subcommittee on Immunization Coverage.

Time and Date: 2:15 p.m.-5 p.m., October 23, 2000.

Place: Hubert H. Humphrey Building, Room 505A, 200 Independence Avenue, SW, Washington, DC 20201.

Status: Open to the public, limited only by the space available.

Purpose: This subcommittee will identify and propose solutions that provide a multifaceted and holistic approach to reducing barriers that result in low immunization coverage for children.

Matters to be Discussed: Agenda items will include discussions on adult immunization standards; the adult immunization action plan; school-based and other institutional immunization requirements; and unmet needs priorities.

Name: Subcommittee on Vaccine Safety and Communication.

Time and Date: 2:15 p.m.-5 p.m., October 23, 2000.

Place: Hubert H. Humphrey Building, Room 325A, 200 Independence Avenue, SW, Washington, DC 20201.

Status: Open to the public, limited only by the space available.

Purpose: This subcommittee reviews issues relevant to vaccine safety and adverse reactions to vaccines.

Matters to be Discussed: Update on vaccine-related activities; an update on the IOM vaccine safety contract; and a follow-up to the Communications Workshop.

Agenda items are subject to change as priorities dictate.

Contact Person For More Information: Gloria Sagar, Committee Management Specialist, NVPO, CDC, 1600 Clifton Road, NE, M/S D-66, Atlanta, Georgia 30333, telephone 404/687-6672.

The Director, Management Analysis and Services Office, has been delegated the authority to sign Federal RegisterNotices pertaining to announcements of meetings and other committee management activities, for both the Centers for Disease Control and Prevention and the Agency for Toxic Substances and Disease Registry.

Dated: October 4, 2000.
Carolyn J. Russell,
Director, Management Analysis and Services Office, Centers for Disease Control and Prevention.

[FR Doc. 00-26134 Filed 10-6-00; 2:43 pm]

BILLING CODE 4163-18-P